DEPARTMENT OF THE TREASURY

Submission for OMB Review; Comment Request

October 16, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 20, 2006 to be assured of consideration.

Alcohol and Tobacco Tax and Trade Bureau (TTB)

OMB Number: 1513-0077.

Type of Review: Extension.

Title: Records of Things of Value to Retailers, and Occasional Letter Reports from Industry Members Regarding Information on Sponsorships, Advertisements, Promotions, etc., under the FAA Act—TTB REC 5190/1.

Form: TTB REC 5190/1.

Description: These records and occasional letter reports are used to show compliance with the provisions of the Federal Alcohol Administration Act which prevents wholesalers, producers, or importers from giving things of value to retail liquor dealers, and prohibit industry members from conducting certain types of sponsorships, advertising, promotions, etc.

Respondents: Business or other for profits and Individuals or Households.

Estimated Total Burden Hours: 51 hours.

OMB Number: 1513-0093.

Type of Review: Extension

Title: Applicant for Extension of Time for Payment of Tax.

Form: TTB F 5600.38.

Description: TTB uses the information on the form to determine if a taxpayer is qualified to extend the tax payment based on circumstances beyond the taxpayer's control.

Respondents: Business or other for profits.

Estimated Total Burden Hours: 3 hours.

OMB Number: 1513-0064.

Type of Review: Extension.

Title: Importer's Records and Reports—TTB REC 5170/1.

Form: TTB REC 5170/01.

Description: This recordkeeping and reporting requirement concerns the records which must be maintained by the importer. The records are used by TTB to verify that operations are being conducted in compliance with the law and to ensure that all taxes and duties have been paid on imported spirits, thus protecting the revenue.

Respondents: Federal Government.

Estimated Total Burden Hours: 251 hours.

OMB Number: 1513-0052.

Type of Review: Revision.

Title: Alcohol Fuel Plants (AFP) Records, Reports, and Notices (REC 5110/10).

Form: TTB F 5110-75.

Description: This information is necessary (1) to determine that persons are qualified to produce alcohol for fuel purposes and to identify such persons, (2) to account for distilled spirits produced and verify its proper disposition, and (3) to keep registrations current and evaluate permissible variations from prescribed procedures.

Respondents: Business or other for profits and Farms.

Estimated Total Burden Hours: 1,598 hour.

OMB Number: 1513-0070.

Type of Review: Extension.

Title: Tobacco Export Warehouse—Record of Operations TTB REC 5220/1.

Form: TTB REC 5220/1.

Description: Tobacco Export Warehouses store untaxpaid tobacco products until they are exported. Record is used to maintain accountability over these products. Allows TTB to verify that all products have been exported or tax liabilities satisfied. Protects tax revenues.

Respondents: Business or other for profits.

Estimated Total Burden Hours: 1 hours.

OMB Number: 1513-0098.

Type of Review: Revision.

Title: Supporting Data for Nonbeverage Drawback Claims.

Form: TTB F 5154.2.

Description: Data required to be submitted by manufacturers of nonbeverage products are used to verify claims for drawback of taxes and hence, protect the revenue. This form is used to verify that all distilled spirits can be accounted for and that drawback is paid only in the amount prescribed by law.

Respondents: Business or other for profits.

Estimated Total Burden Hours: 3,422 hours.

OMB Number: 1513-0072.

Type of Review: Extension.

Title: TTB REC 5530/1 Applications and Notices—Manufacturers of Nonbeverage Products.

Form: TTB REC 5530/1.

Description: TTB allows exporters to request approval of alternate methods from those specified in regulations under 27 CFR part 28. TTB uses the information to evaluate needs, jeopardy to the revenue, and compliance with the law. TTB also uses the information to identify areas where regulations need changing.

Respondents: Business or other for profits.

Estimated Total Burden Hours: 510 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. E6-17596 Filed 10-19-06; 8:45 am]

BILLING CODE 4810-31-P